DEPARTMENT OF COMMERCE

International Trade Administration

[A-570-867]

Automotive Replacement Glass Windshields from the People's Republic of China: Extension of Time Limit for the Preliminary Results of the Antidumping Duty Administrative Review

AGENCY: Import Administration, International Trade Administration, Department of Commerce.

ACTION: Notice of extension of time limit for the preliminary results of antidumping duty administrative review.

EFFECTIVE DATE: October 24, 2003.

SUMMARY: The Department of Commerce (“the Department”) is extending the time limit for the preliminary results of the antidumping duty review of automotive replacement glass windshields from the People's Republic of China. This review covers the period September 19, 2001 through March 31, 2003.

FOR FURTHER INFORMATION CONTACT: Laurel LaCivita or Jonathan Herzog, AD/CVD Enforcement, Group III, Office 9, Import Administration, International Trade Administration, U.S. Department of Commerce, 14th Street and Constitution Avenue, NW., Washington DC 20230; telephone: (202) 482-4243 and (202) 482-4271, respectively.

SUPPLEMENTARY INFORMATION:

Background

On April 7, 2003, the Department published a notice of opportunity to request an administrative review of the antidumping duty order on automotive replacement glass windshields (“ARG”) from the People's Republic of China (“PRC”) for the period September 19, 2001 through March 31, 2003. See Antidumping or Countervailing Duty Order, Finding, or Suspended Investigation: Opportunity to Request Administrative Review, 68 FR 16761 (April 7, 2003). On April 15, 2003, Dongguan Kongwan Automobile Glass Limited and Peaceful City Limited, requested an administrative review of their sales to the United States during the period of review (“POR”). On April 21, 2003, an importer, Pilkington North America requested an administrative review of the sales of Changchun Pilkington Safety Glass Company Limited, Guilin Pilkington Safety Glass Company Limited, Shanghai Yaohua Pilkington Autoglass Company Limited, and Wuhan Yaohua Pilkington Safety Glass Company Limited to the United States during the POR. On April 22, 2003, TCG International Inc. (“TCGI”), requested an administrative review of its sales to the United States during the POR. On April 30, 2003, Xinyi Automotive Glass (Shenzhen) Company, Limited (“Xinyi”), Shenzhen CSG Automotive Glass Company, Limited (reported to be the former company Shenzhen Benxun Auto Glass Company, Limited) (“Benxun”), and Fuyao Glass Industry Group Company, Limited requested an administrative review of their sales to the United States during the POR. On May 21, 2003, the Department published in the Federal Register a notice of the initiation of the antidumping duty administrative review of ARG from the PRC for the period September 19, 2001 through March 31, 2003. See Initiation of Antidumping and Countervailing Duty Administrative Reviews and Request for Revocation in Part, 68 FR 27781 (May 21, 2003). On September 8, 2003, the Department published a notice in the Federal Register rescinding the administrative reviews of TCGI, Xinyi, and Benxun.¹ See Certain Automotive Replacement Glass Windshields from the People's Republic of China: Notice of Partial Rescission of the Antidumping Duty Administrative Review, 68 FR 52893 (September 8, 2003). The preliminary results of review are currently due no later than December 31, 2003.

¹ Because Bexun withdrew its request for review, the Department did not have the information necessary to make a successor-in-interest determination. Therefore the Department did not determine that Shenzhen CSG Automotive Glass Company, Limited is entitled to receive the same antidumping cash deposit rate accorded Benxun.

Extension of Time Limit of Preliminary Results

Section 751(a)(3)(A) of the Tariff Act of 1930, as amended (“the Act”), states that if it is not practicable to complete the review within the time specified, the administering authority may extend the 245-day period to issue its preliminary results by up to 120 days. Completion of the preliminary results of this review within the 245-day period is not practicable for the following reasons: (1) The review involves several complicated issues which require the Department to gather and analyze a significant amount of information pertaining to each company's sales practices, factors of production, and corporate relationships; and (2) responses from the participating companies required the Department to issue multiple supplemental questionnaires which delayed the planned verification schedules and, therefore, will not allow sufficient time to complete the preliminary results by the scheduled deadline of December 31, 2003.

Because it is not practicable to complete this review within the time specified under the Act, we are extending the time period for issuing the preliminary results of review by 60 days until February 29, 2004, in accordance with section 751(a)(3)(A) of the Act. The final results continue to be due 120 days after the publication of the preliminary results.

Dated: October 17, 2003.
Barbara E. Tillman,
Acting Deputy Assistant Secretary for Import Administration, Group III.

[FR Doc. 03-26938 Filed 10-23-03; 8:45 am]

BILLING CODE 3510-DS-S